DEPARTMENT OF HEALTH AND HUMAN SERVICES

Office for Civil Rights; The Patient Safety and Quality Improvement Act of 2005; Delegation of Authority

Notice is hereby given that I have delegated to the Director of the Office of Civil Rights (OCR), with authority to redelegate, the authority to enforce the privilege and confidentiality protections of section 922, Title IX of the Public Health Service Act, as amended by the patient Safety and Quality Improvement Act of 2005 (the Act). Pursuant to this delegation, the OCR Director shall have the authority:

A. To impose civil monetary penalties pursuant to section 922(f) of the Act;

B. To administer an enforcement program regarding the privilege and confidentiality protections of section 922 of the Act (the Enforcement Program), including but not limited to investigations of compliance, actions to obtain compliance, and determinations to penalize noncompliance;

C. To provide technical assistance and public information in the administration of the Enforcement Program;

D. To make decisions regarding the interpretation of the privilege and confidentiality protections at section 922 of the Act in the administration of the Enforcement Program; and

E. To develop, for issuance by the Secretary, regulations regarding such Enforcement Program.

All other authorities under Title IX of the Public Health Service Act, except those retained by the Secretary, have been delegated to the Director, Agency for Healthcare Research and Quality.

This delegation excludes the authority to submit reports to the Congress, and shall be exercised under the Department's existing delegation of authority and policy on regulations.

This delegation is effective upon signature. In addition, I hereby affirmed and ratified any actions taken by the OCR Director or his subordinates which involved the exercise of the authorities delegated herein prior to the effective day of this delegation.

Dated: April 13, 2006.
Michael O. Leavitt,
Secretary, Department of Health and Human Services.

[FR Doc. 06-4578 Filed 5-16-06; 8:45 am]

BILLING CODE 4153-01-M